NATIONAL CREDIT UNION ADMINISTRATION

Sunshine Act Meeting

Time and Date: 10 a.m., Thursday, July 21, 2005.

Place: Board Room, 7th Floor, Room 7047, 1775 Duke Street, Alexandria, VA 22314-3428.

Status: Open

Matters To Be Considered: 1. Quarterly Insurance Fund Report.

2. Reprogramming of NCUA's Operating Budget for 2005.

3. Proposed Rule: Part 796 of NCUA's Rules and Regulations, Post-Employment Restrictions for Certain NCUA Examiners.

4. Proposed Rule: Section 741.8 of NCUA's Rules and Regulations, Purchase of Assets and Assumption of Liabilities; and Request for Comments: Section 741.3 of NCUA's Rules and Regulations, Nonconforming Investments.

5. Proposed Rule: Section 701.34 of NCUA's Rules and Regulations, Uninsured Secondary Capital Accounts.

6. Proposed Rule: Part 742 of NCUA's Rules and Regulations, Regulatory Flexibility Program.

FOR FURTHER INFORMATION CONTACT: Mary Rupp, Secretary of the Board, Telephone: 703-518-6304.

Mary Rupp,
Secretary of the Board.

[FR Doc. 05-14192 Filed 7-14-05; 2:18 pm]

BILLING CODE 7535-01-M